DEPARTMENT OF TRANSPORTATION

Federal Aviation Administration

14 CFR Part 71

[Docket No. FAA-2020-0305; Airspace Docket No. 20-ASO-12]

RIN 2120-AA66

Amendment of Jet Route J-37 in the Vicinity of Atlanta, GA

AGENCY: Federal Aviation Administration (FAA), DOT.

ACTION: Final rule.

SUMMARY: This action amends Jet Route J-37 in the vicinity of Atlanta, GA, by removing the route segment between the Montgomery, AL, VHF Omnidirectional Range (VOR)/Tactical Air Navigation (VORTAC) and the Lynchburg, VA, VOR/Distance Measuring Equipment (VOR/DME) navigation aids. The route segment was recently removed from the jet route effective January 30, 2020, and then inadvertently added back to the jet route the following chart cycle, effective March 26, 2020. Subsequent to the publication of the rule that added the route segment back to J-37, the FAA identified the error and is taking this action to correct it by removing the route segment as it was in January 2020 in support of the Northeast Corridor Atlantic Coast Route Project.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

In 2018, the FAA published a notice of proposed rulemaking (NPRM) in the Federal Register for Docket No. FAA-2018-0817 (83 FR 48730; September 27, 2018) to amend 3 jet routes, 2 RNAV Q-routes, and 8 VOR Federal airways, and establish 4 RNAV T-routes due to the planned decommissioning of the Hobby, TX, VOR/DME. That action supported the FAA's VOR Minimum Operational Network (VOR MON) Program as published in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. One of the three jet routes proposed for amendment in that docket action was J-37, which included retaining the route segment between the Montgomery, AL, VORTAC and the Lynchburg, VA, VOR/DME as it was charted at that time.

Subsequent to the Docket No. FAA-2018-0817 NPRM publishing in the Federal Register, the FAA published a separate NPRM in the Federal Register for Docket No. FAA-2019-0638 (84 FR 48086; September 12, 2019) and a final rule in the Federal Register for Docket No. FAA-2019-0638 (84 FR 66066, December 3, 2019) to amend or remove certain air traffic service (ATS) routes in the southeastern United States. That action supported the FAA's Northeast Corridor Atlantic Coast Route Project to improve the efficiency of the National Airspace System (NAS) and reduce dependency on ground-based navigational systems. One of the ATS routes amended by that docket action was also J-37, which removed the route segment between the Montgomery, AL, VORTAC and Lynchburg, VA, VOR/DME. The effective date of the final rule for that docket action was January 30, 2020.

Then, subsequent to the Docket No. FAA-2019-0638 final rule publishing in the Federal Register, the FAA published a final rule in the Federal Register for Docket No. FAA-2018-0817 (85 FR 3814; January 23, 2020). That rule amended and established multiple ATS routes, including J-37, affected by the planned decommissioning of the Hobby, TX, VOR/DME as the docket action had proposed in 2018. The effective date of the final rule for that docket action was March 26, 2020.

As a result, J-37 was amended by a rule (Docket No. FAA-2019-0638) published in the Federal Register in December 2019 and effective January 30, 2020, removing the route segment between the Montgomery, AL, VORTAC and Lynchburg, VA, VOR/DME. Then, J-37 was amended again by a rule (Docket No. FAA-2018-0817) published in the Federal Register in January 2020 and effective March 26, 2020, inadvertently adding the same route segment back into the jet route the following chart cycle.

The FAA is taking this action now to amend the Part 71 description of J-37 by removing the route segment between the Montgomery, AL, VORTAC and Lynchburg, VA, VOR/DME as it was in January 2020 in support of the Northeast Corridor Atlantic Coast Route Project.

Jet Routes are published in paragraph 2004 of FAA Order 7400.11D, dated August 8, 2019, and effective September 15, 2019, which is incorporated by reference in 14 CFR 71.1. The Jet Route listed in this rule will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This action amends Title 14 Code of Federal Regulations (14 CFR) part 71 by modifying Jet Route J-37 to remove the route segment between the Montgomery, AL, VORTAC and the Lynchburg, VA, VOR/DME. This action corrects the inadvertent inclusion of the route segment published in the Docket No. FAA-2018-0817 final rule, after the route segment was removed in the Docket No. FAA-2019-0638 final rule. Because the error described above requires prompt resolution, notice and public procedures under 5 U.S.C. 553(b) are unnecessary.

The Jet Route modification accomplished by this action is outlined below.

J-37: J-37 extends between the Harvey, LA, VORTAC and the Coyle, NJ, VORTAC; and between the Kennedy, NY, VOR/DME, and the Massena, NY, VORTAC. The route segment between the Montgomery, AL, VORTAC and the Lynchburg, VA, VOR/DME is removed. The unaffected portions of the existing route remain as charted.

The radials listed in the route description below are stated in True degrees.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying Jet Route J-37 near Atlanta, GA, qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2004 Jet Routes.

* * * * *

J-37 [Amended]

From Harvey, LA; Semmes, AL; to Montgomery, AL. From Lynchburg, VA; Gordonsville, VA; Brooke, VA; INT Brooke 067° and Coyle, NJ, 226° radials; to Coyle. From Kennedy, NY; Kingston, NY; Albany, NY; to Massena, NY.

* * * * *

Issued in Washington, DC, on March 30, 2020.
Scott M. Rosenbloom,
Acting Manager, Rules and Regulations Group.

[FR Doc. 2020-06909 Filed 4-2-20; 8:45 am]

BILLING CODE 4910-13-P